DEPARTMENT OF JUSTICE

Antitrust Division

Notice Pursuant to the National Cooperative Research and Production Act of 1993—OpenGMSL Association

Notice is hereby given that, on September 22, 2025, pursuant to Section 6(a) of the National Cooperative Research and Production Act of 1993, 15 U.S.C. 4301 et seq. (“the Act”), OpenGMSL Association (“OpenGMSL”) has filed written notifications simultaneously with the Attorney General and the Federal Trade Commission disclosing changes in its membership. The notifications were filed for the purpose of extending the Act's provisions limiting the recovery of antitrust plaintiffs to actual damages under specified circumstances.

Specifically, Alfamation, an InTest Company, Lissone, ITALY; Analog Devices Inc., Wilmington, MA; ASTRODESIGN, Inc., Tokyo, JAPAN; Beijing ESWIN Computing Technology Co., Ltd., Beijing, PEOPLE'S REPUBLIC OF CHINA; Core Microelectronics, Sariyer, TURKEY; Granite River Labs, Santa Clara, CA; Murata Manufacturing Co., Ltd., Kyoto, JAPAN; Qualcomm Incorporated, San Diego, CA; ROHM Co., Ltd., Kyoto, JAPAN; Rsemi Zhiyuan (Hangzhou) Semiconductor Science and Technology Limited Company, Hangzhou City, PEOPLE'S REPUBLIC OF CHINA; Samsung Electronics, Hwaseong-si, REPUBLIC OF KOREA; SmartSens Technology (Shanghai) Co., Ltd., Shanghai, PEOPLE'S REPUBLIC OF CHINA; TDK Corporation, Tokyo, JAPAN; and Valeo Comfort and Driving Assistance, Creteil, FRANCE have been added as parties to this venture.

No other changes have been made in either the membership or planned activity of the group research project. Membership in this group research project remains open and OpenGMSL intends to file additional written notifications disclosing all changes in membership.

On June 30, 2025, OpenGMSL filed its original notification pursuant to Section 6(a) of the Act. The Department of Justice published a notice in the Federal Register pursuant to Section 6(b) of the Act on August 13, 2025 (90 FR 38998).

Suzanne Morris,
Deputy Director Civil Enforcement Operations, Antitrust Division.

[FR Doc. 2025-19431 Filed 10-2-25; 8:45 am]

BILLING CODE;P